DEPARTMENT OF LABOR

Employment and Training Administration

Agency Information Collection Activities; Comment Request; Joint Quarterly Narrative Progress Report Template

ACTION: Notice.

SUMMARY: The Department of Labor (DOL), ETA is soliciting comments concerning a proposed extension for the authority to conduct the information collection request (ICR) titled, “Joint Quarterly Narrative Progress Report Template.” This comment request is part of continuing Departmental efforts to reduce paperwork and respondent burden in accordance with the Paperwork Reduction Act of 1995 (PRA), 44 U.S.C. 3501 et seq.

DATES: Consideration will be given to all written comments received by February 14, 2017.

ADDRESSES: A copy of this ICR with applicable supporting documentation; including a description of the likely respondents, proposed frequency of response, and estimated total burden may be obtained free by contacting Jenn Smith by telephone at (202) 693-3597, TTY 1-877-889-5627, (these are not toll-free numbers) or by email at smith.jenn@dol.gov.

Submit written comments about, or requests for a copy of, this ICR by mail or courier to the U.S. Department of Labor, Division of Youth Services, Room N-4508, Employment and Training Administration, U.S. Department of Labor, 200 Constitution Avenue NW., Washington, DC 20210; by email: smith.jenn@dol.gov; or by Fax 202-693-3861.

FOR FURTHER INFORMATION CONTACT: Jenn Smith by telephone at (202) 693-3597 (this is not a toll-free number) or by email at smith.jenn@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Workforce Innovation and Opportunity Act (29 U.S.C. 3101) authorizes this information collection. President Barack Obama signed the Workforce Innovation and Opportunity Act (WIOA) into law on July 22, 2014. One of the many goals of WIOA is to develop more consistent instruments for collecting data related to the Department's job training programs. The Joint Quarterly Narrative Progress Report Template consolidates various instruments to collect qualitative data generated by several programs legislatively mandated by WIOA, as well as additional job training programs that are adopting the performance reporting provisions of WIOA to promote alignment across the workforce system. Qualitative data include a particular grantee's progress and milestones during a grant's period of performance and follow-up period, challenges to meeting a grant's expected outcomes, and tracking of grant management and performance indicators during the life of the grant.

The National Farmworkers Job Program and YouthBuild grants are authorized under the Workforce Innovation and Opportunity Act of 2014 (WIOA), which identified performance accountability requirements for these grants. The WIOA performance indicators and reporting requirements also apply to the Dislocated Worker Grants program. While H-1B and Reentry Employment Opportunities grants are not authorized under WIOA, these programs are also adopting the WIOA performance indicators and align with WIOA data element definitions and reporting templates to promote consistency across these DOL-funded programs. For this same reason, the Senior Community Service Employment Program, authorized under the Older Americans Act, as amended, is also adopting this Joint Quarterly Narrative Performance Report.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Number 1205-0NEW.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: NEW.

Title of Collection: Joint Quarterly Narrative Progress Report Template.

Form: Quarterly Narrative Progress Report Template.

OMB Control Number: OMB 1205-0NEW.

Affected Public: State/local/tribal governments, Federal government, private sector (not-for-profit institutions).

Estimated Number of Respondents: 792.

Frequency: Quarterly.

Total Estimated Annual Responses: 3,008.

Estimated Average Time per Response: 10 hours.

Estimated Total Annual Burden Hours: 30,080 hours.

Total Estimated Annual Other Cost Burden: $480,076.80.

Authority: 44 U.S.C. 3506(c)(2)(A).

Portia Wu,
Assistant Secretary for Employment and Training, Labor.

[FR Doc. 2016-30204 Filed 12-15-16; 8:45 am]

BILLING CODE 4510-FN-P 4510-FT-P